DEPARTMENT OF VETERANS AFFAIRS

Advisory Committee on Women Veterans; Notice of Meeting

The Department of Veterans Affairs (VA) gives notice under Public Law 92-463 (Federal Advisory Committee Act) that the Advisory Committee on Women Veterans will meet October 26-28, 2010, at the Hilton Garden Inn, in the Georgetown Ballroom, 815 14th Street, NW., Washington, DC, from 8:30 a.m. until 4 p.m. each day. The meeting is open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include updates on recommendations from the 2010 report; updates from the Veterans Benefits Administration, the Veterans Health Administration, the National Cemetery Administration; and briefings on mental health, prosthetic services for women Veterans, readjustment counseling, women Veterans' legislative issues, special health initiatives, women Veterans' research, rural health, and homeless initiatives for women Veterans.

Interested persons may attend, appear before, or file statements with the Committee. Any member of the public wishing to attend or provide written statements should contact Ms. Shannon L. Middleton at the Department of Veterans Affairs, Center for Women Veterans (00W), 810 Vermont Avenue, NW., Washington, DC 20420, or phone at (202) 461-6193, fax at (202) 273-7092, and e-mail at 00W@mail.va.gov. Written statements must be filed before the meeting, or within 10 days after the meeting.

Dated: September 30, 2010.
By Direction of the Secretary.
Vivian Drake,
Acting Committee Management Officer.

[FR Doc. 2010-25051 Filed 10-5-10; 8:45 am]

BILLING CODE P